FEDERAL COMMUNICATIONS COMMISSION

Notice of Public Information Collections Being Reviewed by the Federal Communications Commission for Extension Under Delegated Authority, Comments Requested

January 9, 2008.

SUMMARY: The Federal Communications Commissions, as part of its continuing effort to reduce paperwork burdens, invites the general public and other Federal agencies to take this opportunity to comment on the following information collections, as required by the Paperwork Reduction Act of 1995 (PRA), Public Law 104-13. An agency may not conduct or sponsor a collection of information unless it displays a currently valid control number. No person shall be subject to any penalty for failing to comply with a collection of information subject to the PRA that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before March 17, 2008. If you anticipate that you will be submitting comments, but find it difficult to do so within the period of time allowed by this notice, you should advise the contact listed below as soon as possible.

ADDRESSES: You may submit all PRA comments by e-mail or U.S. postal mail. To submit your comments by e-mail, send them to PRA@fcc.gov. To submit your comments by U.S. postal mail, mark them to the attention of: Cathy Williams, Federal Communications Commission, Room 1-C823, 445 12th Street, SW., Washington, DC 20554.

FOR FURTHER INFORMATION CONTACT: For additional information about the information collections, send an e-mail to PRA@fcc.gov or contact Cathy Williams at (202) 418-2918.

SUPPLEMENTARY INFORMATION: OMB Control Number: 3060-1043.

Title: Telecommunications Relay Services and Speech-to-Speech Services for Individuals with Hearing and Speech Disabilities, CG Docket No. 03-123, FCC 04-137.

Form Number: N/A.

Type of Review: Extension of a currently approved collection.

Respondents: Business or other for-profit entities.

Number of Respondents: 13.

Estimated Time per Response: 10 hours.

Frequency of Response: Annual reporting requirement; Third party disclosure requirement.

Total Annual Burden: 130 burden hours.

Total Annual Cost: None.

Obligation to Respond: Required to obtain or retain benefits.

Nature and Extent of Confidentiality: An assurance of confidentiality is not offered because this information collection does not require the collection of personally identifiable information from individuals.

Privacy Impact Assessment: No Impact(s).

Needs and Uses: The reporting requirements included under OMB Control Number 3060-1043 enable the Commission to collect waiver reports from Video Relay Service (VRS) and Internet-Protocol Relay (IP Relay) providers requesting waivers from certain Telecommunications Relay Services (TRS) mandatory minimum standards. On June 30, 2004, the Commission released a Report and Order and Order on Reconsideration in Telecommunications Relay Services and Speech-to-Speech Services for Individuals with Hearing and Speech Disabilities, FCC 04-137. In the Report and Order, the Commission granted VRS and IP Relay providers waivers of the following TRS mandatory minimum requirements, amongst others: (1) 47 CFR 64.604(a)(3)—types of calls that must be handled; (2) 47 CFR 64.604(a)(4)—emergency call handling; and (3) 47 CFR 64.604(b)(3)—equal access to interexchange carriers. These waivers are granted provided that VRS and IP Relay providers submit annual reports to the Commission, in a narrative form, detailing: (1) The provider's plan or general approach to meet the waived standards; (2) any additional costs that would be required to meet the standards; (3) the development of any new technology that may affect the particular waivers; (4) the progress made by the provider to meet the standards; (5) the specific steps taken to resolve any technical problems that prohibit the provider from meeting the standards; and (6) any other factors relevant to whether the waiver should continue in effect.

Federal Communications Commission.
Marlene H. Dortch,
Secretary.

[FR Doc. E8-758 Filed 1-16-08; 8:45 am]

BILLING CODE 6712-01-P